DEPARTMENT OF TRANSPORTATION

Federal Aviation Administration

14 CFR Part 71

[Airspace Docket No. 01-ANM-09]

Revision of Class E Airspace, Pasco, WA

AGENCY: Federal Aviation Administration (FAA), DOT.

ACTION: Final rule.

SUMMARY: This action revises the Class E airspace at Pasco, WA. An area of uncontrolled airspace exists in the Tri-Cities terminal area. Additional Class E 1,200-feet controlled airspace, above the surface of the earth is required to contain aircraft conducting IFR operations at Pasco, Tri-Cities Airport. The intended effect of this proposal is to provide adequate controlled airspace for Instrument Flight Rules (IFR) operations at Pasco, Tri-Cities Airport, Pasco, WA.

EFFECTIVE DATE: 0901 UTC, April 18, 2002.

FOR FURTHER INFORMATION CONTACT: Brian Durham, ANM-520.7, Federal Aviation Administration, Docket No. 01-ANM-09, 1601 Lind Avenue SW., Renton, Washington 98055-4056: telephone number: (425) 227-2527.

SUPPLEMENTARY INFORMATION:

History

On July 10, 2001, the FAA proposed to amend Title 14 Code of Federal Regulations, part 71 (14 CFR part 71) by revising Class E at Pasco, WA, in order to provide a safer IFR environment at Pasco, Tri-Cities Airport, Pasco, WA (66 FR 35916). This amendment provides additional Class E5 1,200-feet controlled airspace at Pasco, WA, to contain IFR aircraft operating in the Pasco, Tri-Cities terminal area. Interested parties were invited to participate in the rulemaking proceeding by submitting written comments on the proposal. A revision to the legal description as written in the Notice for Proposed Rule Making (NPRM) was required for charting purposes to amend an error in the Class E 700 foot airspace at Richland, WA. This correction does not change the existing airspace at Richland, WA, as charted. This is considered an insignificant modification to the airspace description as the dimension of the proposed airspace described in the NPRM did not change.

The Rule

This amendment to Title 14 Code of Federal Regulations, part 71 (14 CFR part 71) revises Class E airspace at Pasco, WA, in order to provide adequate controlled airspace for Instrument Flight Rules (IFR) operations at Pasco, Tri-Cities Airport, Pasco, WA. This amendment revises Class E5 airspace at Pasco, WA, to enhance safety and efficiency of IFR flight operations in the Tri-Cities terminal area. The FAA establishes Class E airspace where necessary to contain aircraft transitioning between the terminal and en route environments. This rule is designed to provide for the safe and efficient use of the navigable airspace and to promote safe flight operations under Instrument Flight Rules (IFR) at the Pasco, Tri-Cities Airport and between the terminal and en route transition stages.

The area will be depicted on aeronautical charts for pilot reference. The coordinates for this airspace docket are based on North American Datum 83. Class E airspace areas extending upward from 700 feet or more above the surface of the earth, are published in Paragraph 6005, of FAA Order 7400.9J dated August 31, 2001, and effective September 16, 2001, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 6005 Class E airspace areas extending upward from 700 feet or more above the surface of the earth.

* * * * *

ANM WA E5 Pasco, WA [Revised]

Pasco, Tri-Cities Airport, WA

(Lat. 46°15′53″ N., long 119°07′08″ W.)

Pasco VOR/DME

(Lat. 46°15′47″ N., long. 119°06′57″ W.)

Richland Airport

(Lat. 46°18′20″ N., long. 119°18′15″ W.)

That airspace extending upward from 700 feet above the surface within 9.2 miles northwest and 5.3 miles southeast of the Pasco VOR/DME 046° and 226° radials extending from 20.1 miles northeast to 10.5 miles southwest of the VOR/DME, and within 8.3 miles northeast and 6.1 miles southwest of the Pasco VOR/DME 131° radial extending from the VOR/DME to 26.3 miles southeast of the VOR/DME, and within 4.3 miles north and 6.6 miles south of the Pasco VOR/DME 288° radial extending from 7 miles west of the VOR/DME to 23.1 miles west of the VOR/DME, and within 8.3 miles west and 4 miles east of the 026° bearing from the Richland Airport extending from the airport to 20.9 miles; that airspace extending upward from 1,200 feet above the surface bounded by a line beginning at lat. 45°49′00″ N., long. 118°00′00″ W.; thence to lat. 45°49′00″ N., long. 119°45′00″ W.; to lat 47°00′00″ N., long. 119°45′00″ W., to lat. 47°00′00″ N.long., 118°00′00″ W.; thence to the point of origin, excluding that airspace within Federal Airways, and the Hermiston, OR; Pendleton, OR; Walla Walla, WA, Moses Lake, WA, Class E airspace areas.

* * * * *

Issued in Seattle, Washington, on December 27, 2001.
Daniel A. Boyle,
Assistant Manager, Air Traffic Division, Northwest Mountain Region.

[FR Doc. 02-3788 Filed 2-14-02; 8:45 am]

BILLING CODE 4910-13-M